DEPARTMENT OF COMMERCE

National Oceanic and Atmospheric Administration

RIN 0648-XE615

Marine Mammals; File No. 20324

AGENCY: National Marine Fisheries Service (NMFS), National Oceanic and Atmospheric Administration (NOAA), Commerce.

ACTION: Notice; issuance of permit.

SUMMARY: Notice is hereby given that a permit has been issued to Living Planet Productions/Silverback Films, 1 St Augustines Yard, Gaunts Lane, Bristol, BS1 5DE, United Kingdom [Responsible Party: Emily Lascelles], to conduct commercial or educational photography on bottlenose dolphins (Tursiops truncatus).

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Amy Hapeman, (301) 427-8401.

SUPPLEMENTARY INFORMATION: On May 13, 2016, notice was published in the Federal Register (81 FR 29846) that a request for a permit to conduct commercial or educational photography on bottlenose dolphins in the Florida Bay had been submitted by the above-named applicant. The requested permit has been issued under the authority of the Marine Mammal Protection Act of 1972, as amended (16 U.S.C. 1361 et seq.) and the regulations governing the taking and importing of marine mammals (50 CFR part 216).

The permit authorizes filming and photography of the Florida Bay stock of bottlenose dolphins for purposes of a documentary film. Dolphins may be harassed during aerial and vessel-based filming activities. Filming may take place for approximately 30 days over two field seasons. The permit is valid through July 31, 2017.

In compliance with the National Environmental Policy Act of 1969 (42 U.S.C. 4321 et seq.), a final determination has been made that the activity proposed is categorically excluded from the requirement to prepare an environmental assessment or environmental impact statement.

Dated: June 28, 2016.
Julia Harrison,
Chief, Permits and Conservation Division, Office of Protected Resources, National Marine Fisheries Service.

[FR Doc. 2016-15775 Filed 7-1-16; 8:45 am]

BILLING CODE 3510-22-P